DEPARTMENT OF AGRICULTURE

Agricultural Marketing Service

[Document No. AMS-FV-14-0025, FV-14-327]

United States Standard of Identity for Honey

AGENCY: Agricultural Marketing Service, USDA.

ACTION: Notice.

SUMMARY: The Agricultural Marketing Service (AMS) of the Department of Agriculture (USDA) is soliciting comments on how a Federal standard of identity for honey would be in the interest of consumers, the honey industry, and U.S. agriculture.

DATES: Comments must be received by September 19, 2014.

ADDRESSES: Interested persons are invited to submit written comments via the Internet at http://www.regulations.gov or to Brian E. Griffin, Standardization Branch, Specialty Crops Inspection Division, Fruit and Vegetable Program, Agricultural Marketing Service, U.S. Department of Agriculture, 1400 Independence Avenue SW., Room 0709-South Building; STOP 0247, Washington, DC 20250; telephone (202) 720-5021; fax (202) 690-1527, email brian.griffin@ams.usda.gov. Comments should make reference to the date and page number of this issue of the Federal Register and will be made available for public inspection at the above office during regular business hours.

Please be advised that all comments submitted in response to this notice will be included in the record and will be made available to the public on the Internet via http://www.regulations.gov. Also, the identity of the individuals or entities submitting the comments will be made public.

FOR FURTHER INFORMATION CONTACT: Brian E. Griffin, Standardization Branch, Specialty Crops Inspection Division, Agricultural Marketing Service, U.S. Department of Agriculture, telephone (202) 720-5021or fax (202) 690-1527.

Background

Section 10012 of the Agricultural Act of 2014 (Pub. L. 113-79), the 2014 Farm Bill, charged the Secretary with developing a report describing how a Federal standard of identity for honey would be in the interest of consumers, the honey industry, and U.S. agriculture. Section 10012 specifically states, “In preparing the report required under subsection (a), the Secretary shall take into consideration the March 2006, Standard of Identity citizens petition filed with the Food and Drug Administration, including any current industry amendments or clarifications necessary to update that petition.”

In 2006, members of the honey producing, packing, and importing industries petitioned the FDA to develop a standard of identity for honey. A copy of the petitioner's request is available as a supporting document for this notice at- http://www.regulations.gov/#!documentDetail;D=FDA-2006-P-0207-0008.

The FDA is the agency responsible for developing a standard of identity for commodities such as honey. The Food Drug and Cosmetic Act (FDCA) directs the FDA to establish definitions and standards for food (21 U.S.C. § 341). In an effort to promote honesty and fair dealing for the benefit of consumers, the FDA is authorized to establish, by regulation, a common or usual name, a reasonable definition and standard of identity, a reasonable standard of quality, and reasonable standards of fill of the container for any food. The petitioners contended that “the proposed standard will promote honesty and fair dealing not only in the interest of consumers, but in the interest of the honey industry as well.” The petitioners also stated that “a compositional standard for honey will serve as a tool to help combat the economic adulteration of honey.” The petitioners requested that the Commissioner of Food and Drugs adopt certain provisions of the Codex Standard for Honey (CODEX STAN 12-1981, Rev.2 (2001)).

On October 5, 2011, FDA denied the petition concluding that no standard of identity for honey was necessary (http://www.regulations.gov/#!documentDetail;D=FDA-2006-P-0207-0007). The FDA recently published draft guidance for industry on proper labeling of honey and honey products in the April 9, 2014 Federal Register Docket No. FDA-2006-P-0207. In this notice, the FDA addresses the 2006 petition by the American Beekeeping Federation and several other honey-related associations. The FDA believes that the petitioners' goals can be achieved by FDA's existing authorities and that a standard of identity for honey would not promote honesty and fair dealing in the interest of consumers. To address the labeling issues relevant to the petition, the FDA developed the draft guidance to advise the regulated food industry on the proper labeling of honey and honey products to help ensure that honey and honey products are not adulterated or misbranded under sections 402 and 403 of the Federal Food, Drug, and Cosmetic Act (21 U.S.C. 342 and 343, respectively).

There are currently several standards for the inspection and grading of honey. The U.S. Standards for Grades of Extracted Honey, effective date May 23, 1985, and the U.S. Standards for Grades of Comb Honey, effective date May 24, 1967, are voluntary U.S. grade standards issued under the authority of the Agricultural Marketing Act of 1946 (Act). The Act provides for the development of official U.S. grades to designate different levels of quality. These grade standards are available for use by producers, suppliers, buyers, and consumers. Like all standards for grades of fresh and processed fruits, vegetables, and specialty crops, these standards are designed to facilitate orderly marketing by providing a convenient basis for buying and selling, for establishing quality control programs, and for determining loan values. The standards also serve as a basis for the inspection and grading of commodities by the Federal inspection service. Copies of the current U.S. grade standards for extracted honey and comb honey are on the USDA Web site at www.ams.usda .gov/scihome.

To provide an acceptable amount of guidance to help prevent the economic adulteration of honey at some level, many states have adopted, and/or are proposing to adopt, state-level standards of identity for honey. While some are following the 2006 honey industry petition and using an amended version of the Codex Standard for Honey, CODEX standard 12-1981, Rev. 2 (2001), variations in the state standards of identity for honey are inevitable. The end result could lead to an assortment of standards that vary from state to state and impede interstate commerce.

AMS is seeking comments on the petitioner's request for a standard of identity for honey and, specifically, the adoption of deviations as defined in the petitioner's request, and draft proposal. This notice provides for a 30 day period for interested parties to comment on the petitioners' request, and on how an appropriate Federal standard for the identity of honey would be in the interest of consumers, the honey industry, and United States agriculture.

Authority: Section 10012 of the Agricultural Act of 2014 (Pub. L. 113-79).

Dated: August 15, 2014.
Rex A. Barnes,
Associate Administrator, Agricultural Marketing Service.

[FR Doc. 2014-19770 Filed 8-19-14; 8:45 am]

BILLING CODE 3410-02-P